LEGAL SERVICES CORPORATION

Sunshine Act Meeting of the Board of Directors Search Committee for LSC Inspector General

TIME AND DATE: The Search Committee for LSC Inspector General of the Legal Services Corporation Board of Directors will meet June 5, 2004. The meeting will commence immediately following conclusion of the Operations and Regulations Committee meeting, which is anticipated to conclude at approximately 11 a.m.

LOCATION: The Hilton Omaha, Hill Room, 1001 Cass Street, Omaha, Nebraska 68102.

STATUS OF MEETING: Open, except that a portion of the meeting may be closed pursuant to a vote of the Board of Directors to hold an executive session. At the closed session, the Committee may consider and act on applications submitted for the position of Inspector General of the Legal Services Corporation. The closing is authorized by 5 U.S.C. 552b(c)(6) and LSC's corresponding regulation 45 CFR 1622.5(e).

Matters to be Considered:

Open Session

1. Approval of agenda.

2. Approval of the minutes of the Committee's meeting of May 1, 2004.

3. Consider and act on future activities for the Committee.

4. Public comment.

5. Consider and act on other business.

Closed Session

6. Consider and act on applications for the position of LSC Inspector General.

7. Consider and act on adjournment of meeting.

CONTACT PERSON FOR INFORMATION: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: May 26, 2004.
Victor M. Fortuno,
Vice President for Legal Affairs, General Counsel & Corporate Secretary.

[FR Doc. 04-12585 Filed 5-28-04; 1:37 pm]

BILLING CODE 7050-01-P